DEPARTMENT OF HEALTH AND HUMAN SERVICES

National Institutes of Health

National Eye Institute; Notice of Closed Meeting

Pursuant to section 1009 of the Federal Advisory Committee Act, as amended, notice is hereby given of a meeting of the Board of Scientific Counselors, National Eye Institute.

The meeting will be closed to the public as indicated below in accordance with the provisions set forth in sections 552b(c)(4) and 552b(c)(6), title 5 U.S.C., as amended for the review, discussion, and evaluation of individual intramural programs and projects conducted by the National Eye Institute, including consideration of personnel qualifications and performance, and the competence of individual investigators, the disclosure of which would constitute a clearly unwarranted invasion of personal privacy.

Name of Committee: Board of Scientific Counselors, National Eye Institute.

Date: January 16-17, 2025.

Time: January 16, 2025, 8:50 a.m. to 5:30 p.m.

Agenda: To review and evaluate personnel qualifications and performance, and competence of individual investigators.

Address: National Eye Institute, Claude D. Pepper Building, Rooms F/G, 31 Center Drive, Bethesda, MD 20892.

Meeting Format: In Person and Virtual Meeting.

Time: January 17, 2025, 9:00 a.m. to 3:00 p.m.

Agenda: To review and evaluate personnel qualifications and performance, and competence of individual investigators.

Address: National Eye Institute, Claude D. Pepper Building, Rooms F/G, 31 Center Drive, Bethesda, MD 20892.

Meeting Format: In Person and Virtual Meeting.

Contact Person: David M. Schneeweis, Ph.D., Acting Scientific Director, National Eye Institute, National Institutes of Health, Building 31, Room 6A22, Bethesda, MD 20892, 301-451-6763, David.schneeweis@nih.gov.

Information is also available on the Institute's/Center's home page: https://www.nei.nih.gov/about/advisory-committees, where an agenda and any additional information for the meeting will be posted when available.

(Catalogue of Federal Domestic Assistance Program No. 93.867, Vision Research, National Institutes of Health, HHS)

Dated: December 4, 2024.
Victoria E. Townsend,
Program Analyst, Office of Federal Advisory Committee Policy.

[FR Doc. 2024-28865 Filed 12-6-24; 8:45 am]

BILLING CODE 4140-01-P